NUCLEAR REGULATORY COMMISSION

[Docket Nos. 50-424 and 50-425]

Southern Nuclear Operating Company, Inc., Vogtle Electric Generating Plant, Units 1 and 2; Notice of Acceptance for Docketing of the Application, and Notice of Opportunity for Hearing Regarding Renewal of Facility Operating License Nos. NPF-68 and NPF-81 for an Additional 20-Year Period

The U.S. Nuclear Regulatory Commission (NRC or the Commission) is considering an application for the renewal of operating licenses NPF-68 and NPF-81, which authorizes Southern Nuclear Operating Company, Inc. (SNC), to operate the Vogtle Electric Generating Plant (VEGP), Units 1 and 2, at 3565 and 3565 megawatts thermal, respectively. Renewal of the licenses would authorize the applicant to operate VEGP, Unit 1 for an additional 20-year period beyond the period specified in the current operating license. For VEGP, Unit 2, the renewed license would authorize the applicant to operate for an additional 20 years beyond the period specified in the current operating license or 40 years from the date of issuance of the new license, whichever occurs first. The current operating license for VEGP, Unit 1, (NPF-68), expires on January 16, 2027. VEGP, Unit 1 is a Pressurized Water Reactor designed by Westinghouse. The current operating license for VEGP, Unit 2, (NPF-81), expires on February 9, 2029. VEGP, Unit 2, is a Pressurized Water Reactor designed by Westinghouse. Both units are located near Waynesboro, Georgia.

On June 29, 2007, the Commission's staff received an application from SNC, to renew operating licenses NPF-68 and NPF-81, pursuant to Title 10, Part 54, “Requirements for Renewal of Operating Licenses for Nuclear Power Plants,” of the Code of Federal Regulations (10 CFR Part 54). A notice of receipt and availability of the license renewal application (LRA) was published in the Federal Register on August 3, 2007 (72 FR 43296).

The Commission's staff has reviewed the LRA for its acceptability and has determined that SNC has submitted sufficient information in accordance with 10 CFR 54.19, 54.21, 54.22, 54.23, and 51.53(c), and that the application is acceptable for docketing. The Commission will retain the current Docket Nos. 50-424 and 50-425, for operating licenses NPF-68 and NPF-81. The docketing of the LRA does not preclude requests for additional information as the review proceeds, nor does it predict whether the Commission will grant or deny the license.

Before issuance of each requested renewed license, the NRC will have made the findings required by the Atomic Energy Act of 1954, as amended (the Act), and the Commission's rules and regulations. In accordance with 10 CFR 54.29, “Standards for Issuance of a Renewed License,” the NRC will issue a renewed license on the basis of its review if it finds that actions have been identified and have been or will be taken with respect to (1) managing the effects of aging during the period of extended operation on the functionality of structures and components that have been identified as requiring aging management review, and (2) time-limited aging analyses that have been identified as requiring review, such that there is reasonable assurance that the activities authorized by the renewed license will continue to be conducted in accordance with the current licensing basis (CLB), and that any changes made to the plant's CLB comply with the Act and the Commission's regulations.

Additionally, in accordance with 10 CFR 51.95(c), the NRC will prepare an environmental impact statement that is a supplement to the Commission's NUREG-1437, “Generic Environmental Impact Statement for License Renewal of Nuclear Power Plants,” dated May 1996. Pursuant to 10 CFR 51.26, and as part of the environmental scoping process, the staff intends to hold a public scoping meeting. Detailed information regarding this meeting will be the subject of a separate Federal Register notice.

Within 60 days after the date of publication of this Federal Register notice, the requestor/petitioner may file a request for a hearing, and any person whose interest may be affected by this proceeding and who wishes to participate as a party in the proceeding must file a written request for a hearing and a petition for leave to intervene with respect to the renewal of the license. Interested parties must file requests for a hearing and a petition for leave to intervene in accordance with 10 CFR Part 2, “Rules of Practice for Domestic Licensing Proceedings and Issuance of Orders.” Those interested should consult a current copy of 10 CFR 2.309, “Hearing Requests, Petitions to Intervene, Requirements for Standing and Contentions,” which is available at the Commission's Public Document Room (PDR), located at One White Flint North, 11555 Rockville Pike, Rockville, Maryland 20852, and is accessible from the Agencywide Documents Access and Management System's (ADAMS) Public Electronic Reading Room through the Internet at http://www.nrc.gov/reading-rm/adams.html. Persons who do not have access to the Internet or who encounter problems in accessing the documents located in ADAMS should contact the NRC's PDR reference staff by telephone at 1-800-397-4209, or 301-415-4737, or by e-mail at PDR@nrc.gov. If a request for a hearing or a petition for leave to intervene is filed within the 60-day period, the Commission or a presiding officer designated by the Commission or by the Chief Administrative Judge of the Atomic Safety and Licensing Board Panel will rule on the request and/or petition, and the Secretary or the Chief Administrative Judge of the Atomic Safety and Licensing Board will issue a notice of a hearing or an appropriate order. If no request for a hearing or petition for leave to intervene is filed within the 60-day period, the NRC may, upon completion of its evaluations and upon making the findings required under 10 CFR Part 51 and 10 CFR Part 54, renew the license without further notice.

As required by 10 CFR 2.309, a petition for leave to intervene shall set forth with particularity the interest of the petitioner in the proceeding and how that interest may be affected by the results of the proceeding, taking into consideration the limited scope of matters that may be considered pursuant to 10 CFR Parts 51 and 54. The petition must specifically explain the reasons why intervention should be permitted with particular reference to (1) the nature of the requestor/petitioner's right under the Act to be made a party to the proceeding, (2) the nature and extent of the requestor/petitioner's property, financial, or other interest in the proceeding, and (3) the possible effect of any decision or order which may be entered in the proceeding on the requestor/petitioner's interest. The petition must also set forth the specific contentions that the petitioner/requestor seeks to have litigated at the proceeding.

Each contention must consist of a specific statement of the issue of law or fact to be raised or controverted. In addition, the requestor/petitioner shall briefly explain the bases of each contention and concisely state the alleged facts or the expert opinion that supports the contention on which the requestor/petitioner intends to rely in proving the contention at the hearing. The requestor/petitioner must also provide references to those specific sources and documents of which the requestor/petitioner is aware and on which the requestor/petitioner intends to rely to establish those facts or expert opinion. The requestor/petitioner must provide sufficient information to show that a genuine dispute exists with the applicant on a material issue of law or fact.¹ Contentions shall be limited to matters within the scope of the action under consideration. The contention must be one that, if proven, would entitle the requestor/petitioner to relief. A requestor/petitioner who fails to satisfy these requirements with respect to at least one contention will not be permitted to participate as a party.

¹ To the extent that the application contains attachments and supporting documents that are not publicly available because they are asserted to contain safeguards or proprietary information, petitioners desiring access to this information should contact the applicant or applicant's counsel to discuss the need for a protective order.

The Commission requests that each contention be given a separate numeric or alphabetical designation within one of the following groups (1) technical (primarily related to safety concerns), (2) environmental, or (3) miscellaneous.

As specified in 10 CFR 2.309, if two or more requestors/petitioners seek to co-sponsor a contention or propose substantially the same contention, the requestors/petitioners must jointly designate a representative who shall have the authority to act for the requestors/petitioners with respect to that contention.

Those permitted to intervene become parties to the proceeding, subject to any limitations in the order granting leave to intervene, and have the opportunity to participate fully in the conduct of the hearing. A request for a hearing or a petition for leave to intervene must be filed by either (1) first class mail addressed to the Office of the Secretary of the Commission, U.S. Nuclear Regulatory Commission, Washington, DC 20555-0001, Attention: Rulemaking and Adjudications Staff, (2) courier, express mail, and expedited delivery services to the Office of the Secretary, Sixteenth Floor, One White Flint North, 11555 Rockville Pike, Rockville, Maryland 20852, Attention: Rulemaking and Adjudications Staff, (3) e-mail addressed to the Office of the Secretary, U.S. Nuclear Regulatory Commission, hearingdocket@nrc.gov, or (4) facsimile transmission addressed to the Office of the Secretary, U.S. Nuclear Regulatory Commission, Washington, DC, Attention: Rulemaking and Adjudications Staff at 301-415-1101 (verification number is 301-415-1966).² Requestors/petitioners must send a copy of the request for hearing and petition for leave to intervene to the Office of the General Counsel, U.S. Nuclear Regulatory Commission, Washington, DC 20555-0001; copies should be transmitted either by facsimile to 301-415-3725 or by e-mail to OGCMailCenter@nrc.gov. Requestors/petitioners must also send a copy of the request for hearing and petition for leave to intervene to the attorney for the licensee, Mr. Stanford M. Blanton, Esquire, Balch & Bingham LLP, P. O. Box 306, Birmingham, Alabama 35201.

² If the request/petition is filed by e-mail or facsimile, an original and two copies of the document must be mailed within 2 (two) business days thereafter to the Secretary, U.S. Nuclear Regulatory Commission, Washington, DC 20555-0001; Attention: Rulemaking and Adjudications Staff.

Untimely requests and/or petitions and contentions will not be entertained absent a determination by the Commission, the presiding officer, or the Atomic Safety and Licensing Board that the petition, request, and/or contentions should be granted based on a balancing of the factors specified in 10 CFR 2.309(a)(1)(i)-(viii).

Detailed information about the license renewal process can be found under the Nuclear Reactors icon at http://www.nrc.gov/reactors/operating/licensing/renewal.html on the NRC's Web site. Copies of the application to renew the operating license for VEGP, Units 1 and 2 are publicly available at the NRC's PDR, located at One White Flint North, 11555 Rockville Pike, Rockville, Maryland 20852, or from ADAMS. The ADAMS Accession numbers for the LRA and the Environmental Report (ER) are ML071840360 and ML071840357, respectively. The public may also view the LRA and the ER on the Internet at www.nrc.gov/reactors/operating/licensing/renewal/applications.html. In addition, the LRA and the ER are available to the public near VEGP, Units 1 and 2, at the Burke County Library, 130 Highway 24 South, Waynesboro, Georgia 30830.

Dated at Rockville, Maryland, this 15th day of August 2007.
For the Nuclear Regulatory Commission.
Pao-Tsin Kuo,
Director, Division of License Renewal, Office of Nuclear Reactor Regulation.

[FR Doc. E7-16467 Filed 8-20-07; 8:45 am]

BILLING CODE 7590-01-P